DEPARTMENT OF ENERGY

Federal Energy Regulatory Commission

Combined Notice of Filings #1

Take notice that the Commission received the following electric corporate filings:

Docket Numbers: EC18-45-000.

Applicants: Shoreham Solar Commons LLC.

Description: Application for Approval of the Disposition of Jurisdictional Facilities under Section 203 of the Federal Power Act of Shoreham Solar Commons LLC.

Filed Date: 1/11/18.

Accession Number: 20180111-5174.

Comments Due: 5 p.m. ET 2/1/18.

Docket Numbers: EC18-46-000.

Applicants: Energía Sierra Juárez U.S., LLC, Energía Sierra Juárez U.S. Transmission, LLC, InterGen Energy Solutions, LLC, Baja California Power, Inc.

Description: Application for Authorization Under Section 203 of The Federal Power Act for the Disposition of Jurisdictional Facilities and Request for Expedited Consideration of InterGen Utilities.

Filed Date: 1/12/18.

Accession Number: 20180112-5133.

Comments Due: 5 p.m. ET 2/2/18.

Take notice that the Commission received the following electric rate filings:

Docket Numbers: ER16-2307-003.

Applicants: Vista Energy Marketing, L.P.

Description: Notice of change in status of Vista Energy Marketing, L.P.

Filed Date: 1/11/18.

Accession Number: 20180111-5163.

Comments Due: 5 p.m. ET 2/1/18.

Docket Numbers: ER16-2412-005.

Applicants: Luning Energy LLC.

Description: Notice of Non-Material Change in Status of Luning Energy LLC.

Filed Date: 1/11/18.

Accession Number: 20180111-5158.

Comments Due: 5 p.m. ET 2/1/18.

Docket Numbers: ER18-487-001.

Applicants: Tampa Electric Company.

Description: Tariff Amendment: Amended—Section 205 Requirements Depreciation Rates—Various Accounts to be effective 12/12/2017.

Filed Date: 1/12/18.

Accession Number: 20180112-5052.

Comments Due: 5 p.m. ET 2/2/18.

Docket Numbers: ER18-637-000.

Applicants: NorthWestern Corporation.

Description: Tariff Cancellation: Notice of Cancellation: SA803, Utility Relocation Agreement w/City of Billings to be effective 1/12/2018.

Filed Date: 1/11/18.

Accession Number: 20180111-5141.

Comments Due: 5 p.m. ET 2/1/18.

Docket Numbers: ER18-638-000.

Applicants: Allegheny Energy Supply Company, LLC.

Description: Tariff Cancellation: Notice of Cancellation of Reactive Power Rate Schedule No. 12 to be effective 12/13/2017.

Filed Date: 1/12/18.

Accession Number: 20180112-5040.

Comments Due: 5 p.m. ET 2/2/18.

Docket Numbers: ER18-639-000.

Applicants: NorthWestern Corporation.

Description: Tariff Cancellation: Notice of Cancellation: SA 802, Fast Process Agreement with MDOT (Rouse-Oak) to be effective 1/13/2018.

Filed Date: 1/12/18.

Accession Number: 20180112-5065.

Comments Due: 5 p.m. ET 2/2/18.

Docket Numbers: ER18-640-000.

Applicants: NorthWestern Corporation.

Description: Tariff Cancellation: Notice of Cancellation: SA 745 First Revised, EP&C Agreement w/Express Pipeline to be effective 1/13/2018.

Filed Date: 1/12/18.

Accession Number: 20180112-5066.

Comments Due: 5 p.m. ET 2/2/18.

Docket Numbers: ER18-641-000.

Applicants: California Independent System Operator Corporation.

Description: § 205(d) Rate Filing: 2018-01-12 CPM Risk of Retirement Amendment to be effective 4/13/2018.

Filed Date: 1/12/18.

Accession Number: 20180112-5087.

Comments Due: 5 p.m. ET 2/2/18.

Docket Numbers: ER18-642-000.

Applicants: Settlers Trail Wind Farm, LLC.

Description: Baseline eTariff Filing: Rate Schedule for Reactive Supply and Voltage Control to be effective 3/13/2018.

Filed Date: 1/12/18.

Accession Number: 20180112-5089.

Comments Due: 5 p.m. ET 2/2/18.

Docket Numbers: ER18-643-000.

Applicants: PJM Interconnection, L.L.C.

Description: Compliance filing: Notice of Cancellation of ICSA SA No. 2537; Queue No. O66 to be effective N/A.

Filed Date: 1/12/18.

Accession Number: 20180112-5104.

Comments Due: 5 p.m. ET 2/2/18.

Docket Numbers: ER18-644-000.

Applicants: Monongahela Power Company, West Penn Power Company, The Potomac Edison Company, PJM Interconnection, L.L.C.

Description: § 205(d) Rate Filing: West Penn et al submits IAs, SA Nos. 4897, 4898 and 4899 to be effective 12/13/2017.

Filed Date: 1/12/18.

Accession Number: 20180112-5122.

Comments Due: 5 p.m. ET 2/2/18.

Docket Numbers: ER18-645-000.

Applicants: AEP Generation Resources Inc.

Description: § 205(d) Rate Filing: 13th Amd to Station Agreement Among AEP GR-Buckeye-Cardinal to be effective 1/1/2018.

Filed Date: 1/12/18.

Accession Number: 20180112-5128.

Comments Due: 5 p.m. ET 2/2/18.

Docket Numbers: ER18-646-000.

Applicants: Chambersburg Energy, LLC.

Description: § 205(d) Rate Filing: Reactive Service Rate Schedule Effective Date eTariff Filings to be effective 12/13/2017.

Filed Date: 1/12/18.

Accession Number: 20180112-5132.

Comments Due: 5 p.m. ET 2/2/18.

Docket Numbers: ER18-647-000.

Applicants: Gans Energy, LLC.

Description: § 205(d) Rate Filing: Reactive Service Rate Schedule Effective Date eTariff Filings to be effective 12/13/2017.

Filed Date: 1/12/18.

Accession Number: 20180112-5135.

Comments Due: 5 p.m. ET 2/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2018.
Nathaniel J. Davis, Sr.,
Deputy Secretary.

[FR Doc. 2018-01028 Filed 1-19-18; 8:45 am]

BILLING CODE 6717-01-P